DEPARTMENT OF TRANSPORTATION

Federal Aviation Administration

[Summary Notice No. PE-2000-45]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before October 8, 2000.

ADDRESSES: Send comments on any petition in triplicate to: Federal Aviation Administration, Office of the Chief Counsel, Attn: Rule Docket (AGC-200), Petition Docket No. ________, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029, Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on September 12, 2000.
Donald P. Byrne,
Assistant Chief Counsel for Regulations.

Dispositions of Petitions

Docket No.: 29477

Petitioner: Aero Instruments and Avionics, Inc.

Section of the FAR Affected: 14 CFR 145.45(f)

Description of Relief South/Disposition: To permit AIA the extent necessary to assign one copy of its Inspection Procedures Manual (IPM) to each department manager rather than give a copy of the IPM to each of its supervisory and inspection personnel.

Grant, 08/29/00, Exemption No. 7337

Docket No.: 30135

Petitioner: Atlantic Aero, Inc.

Section of the FAR Affected: 14 CFR 145.45(a)

Description of Relief Sought/Disposition: To permit AAI to assign copies of Inspection Procedures Manual (IPM) to its supervisory personnel and place copies of the IPM in strategic locations in lieu of giving a copy of the IPM to each of its supervisory and inspection personnel.

Grant, 08/29/00, Exemption No. 7336

Docket No: 28885

Petitioner: Freefall Adventures, Inc.

Section of the FAR Affected: 14 CFR 105.43(a)

Description of Relief Sought/Disposition: To permit nonstudent foreign national parachutists to participate in FAI-sponsored parachute jumping events without complying with the parachute packing and equipment requirements of § 105.43(a).

Grant, 08/29/00, Exemption No. 7335

Docket No.: 26559

Petitioner: Helicopter Association International and the Association of Air Medical Services

Section of the FAR Affected: 14 CFR 43.3(a)

Description of Relief Sought/Disposition: To permit pilots employed by member operators of HAI or AAMS or other similarly-situated certificated operators to remove and reinstall liquid oxygen containers in their aircraft after receiving and documenting appropriate training by a properly certificated airframe mechanic.

Grant, 08/29/00, Exemption No. 6002C

Docket No.: 26378

Petitioner: DaimlerChysler Aerospace, MTU Maintenance Hannover GmbH (MTU)

Section of the FAR Affected: 14 CFR 145.47(c)(1)

Description of Relief Sought/Disposition: To permit MTU to extend its certification privileges as an FAA-approved foreign repair station to contract the maintenance and repair of engine components of International Aero Engines AG Model V2500 turbine engines to facilities that are not FAA-certificated repair stations, U.S.-original equipment manufacturers, or approved manufacturing licensees for such engines.

Grant, 08/25/00, Exemption No. 5337D

Docket No.: 26608

Petitioner: Phillips Alaska, Inc.

Section of the FAR Affected: 14 CFR 43.3(a), 43.7(a), 91.407(a)(2), 91.417(a)(2)(v), and 121.379

Description of Relief Sought/Disposition: To permit ARCO Alaska, Inc. (ARCO Alaska), and British Petroleum Exploration, Inc. (BPX), to use the approved maintenance recordkeeping procedures for Alaska Airlines, Inc. (ASA) for Boeing 737-200 aircraft leased and operated by ARCO Alaska and BPX. It also permits ASA to perform maintenance, preventive maintenance, alterations, inspections, major repairs, and major alterations, and subsequently return to service Boeing 737-200 aircraft leased and operated by ARCO Alaska and BPX in accordance with ASA's continuous airworthiness maintenance program and maintenance procedures.

Grant, 08/25/00, Exemption No. 5667D

[FR Doc. 00-23814 Filed 9-20-00; 8:45 am]

BILLING CODE 4910-13-M